NATIONAL AERONAUTICS AND SPACE ADMINISTRATION

[Notice [21-030]]

Notice of Intent To Grant Exclusive License

AGENCY: National Aeronautics and Space Administration.

ACTION: Notice of intent to grant partially exclusive patent license.

SUMMARY: NASA hereby gives notice of its intent to grant a partially exclusive patent license in the United States to practice the invention described and claimed in U.S. Patent Application Serial Number 17/119,632 entitled, “Shape Memory Alloy (SMA) Tubular Structure,” LEW-20196-1, to SMART Tire Company, Inc. having its principal place of business in Los Angeles, CA. The fields of use may be limited to powered bicycles with two wheels; electric-powered two-wheeled bicycles with pedal assist and a maximum speed of 20 miles per hour (MPH); and electric-powered kick scooters with a maximum speed of 20 MPH.

DATES: The prospective partially exclusive license may be granted unless, within fifteen (15) days from the date of this published notice, NASA receives written objections including evidence and argument that establish that the grant of the license would not be consistent with the requirements regarding the licensing of federally owned inventions as set forth in the Bayh-Dole Act and implementing regulations. Competing applications completed and received within fifteen (15) days of the date of this published notice will also be treated as objections to the grant of the contemplated exclusive license. Objections submitted in response to this notice will not be made available to the public for inspection and, to the extent permitted by law, will not be released under the Freedom of Information Act.

ADDRESSES: Objections relating to the prospective license may be submitted to Patent Counsel at the NASA Glenn Research Center Office of General Counsel, via email at robert.earp@nasa.gov, with cc to amy.hiltabidel@nasa.gov. Phone (216) 433-3663.

FOR FURTHER INFORMATION CONTACT: Robert Earp, Patent Counsel at the NASA Glenn Research Center Office of General Counsel via email at robert.earp@nasa.gov. Phone (216) 433-3663.

This notice of intent to grant a partially exclusive patent license is issued in accordance with 35 U.S.C. 209(c)(1) and 37 CFR 404.7(a)(1)(i). The patent rights in this invention has been assigned to the United States of America as represented by the Administrator of the National Aeronautics and Space Administration. The prospective partially exclusive license will comply with the requirements of 35 U.S.C. 209 and 37 CFR 404.7.

Information about other NASA inventions available for licensing can be found online at http://technology.nasa.gov.

Helen Galus,
Agency Counsel for Intellectual Property.

[FR Doc. 2021-10423 Filed 5-17-21; 8:45 am]

BILLING CODE 7510-13-P